DEPARTMENT OF TRANSPORTATION

Federal Aviation Administration

14 CFR Part 39

[Docket No. 2002-NM-100-AD; Amendment 39-13070; AD 2003-04-21 R1]

RIN 2120-AA64

Airworthiness Directives; Bombardier Model CL-600-2B19 (Regional Jet Series 100 & 440) Airplanes

AGENCY: Federal Aviation Administration, DOT.

ACTION: Final rule; correction.

SUMMARY: This document corrects information in an existing airworthiness directive (AD) that applies to certain Bombardier Model CL-600-2B19 (Regional Jet Series 440) series airplanes. That AD currently requires replacement of the overwing emergency exit placards, door weight placards, and no baggage placards with new placards. This document corrects the applicability of AD 2003-04-21 to identify affected model designations as published in the most recent type certificate data sheet. This correction is necessary to ensure that operators of all affected airplanes accomplish the requirements of this AD.

DATES: Effective April 4, 2003.

The incorporation by reference of a certain publication, as listed in the regulations, was approved previously by the Director of the Federal Register as of April 4, 2003 (68 FR 9509, February 28, 2003).

FOR FURTHER INFORMATION CONTACT: Dan Parrillo, Aerospace Engineer, Systems and Flight Test Branch, ANE-172, FAA, New York Aircraft Certification Office, 10 Fifth Street, Third Floor, Valley Stream, New York 11581; telephone (516) 256-7505; fax (516) 568-2716.

SUPPLEMENTARY INFORMATION: On February 19, 2003, the Federal Aviation Administration (FAA) issued AD 2003-04-21, amendment 39-13070 (68 FR 9509, February 28, 2003), which applies to certain Bombardier Model CL-600-2B19 (Regional Jet Series 440) series airplanes. That AD requires replacement of the overwing emergency exit placards, door weight placards, and no baggage placards with new placards. That AD was prompted by the issuance of mandatory continuing airworthiness information by a foreign civil airworthiness authority. The actions required by that AD are intended to prevent the inability of a passenger to open and dispose of the overwing emergency exit door during an emergency evacuation due to incorrect placards.

Need for the Correction

In the preamble of AD 2003-04-21 under the heading “Explanation of Change to Applicability,” it states, “[The FAA has] revised the applicability of the final rule to identify model designations as published in the most recent type certificate data sheet for the affected models.” We revised the applicability of the final rule to include the parenthetical “(Regional Jet Series 440).” However, we inadvertently omitted Regional Jet Series “100,” which is specified on the type certificate data sheet. In addition, both of these airplane models were identified by serial numbers in the applicability. Therefore, the correct applicability of this AD is “Bombardier Model CL-600-2B19 (Regional Jet Series 100 & 440) airplanes.”

We have determined that a correction to AD 2003-04-21 is necessary. We have clarified the applicability of this AD by identifying the affected model designations as published in the most recent type certificate data sheet.

Correction of Publication

This document corrects the error and correctly adds the AD as an amendment to section 39.13 of the Federal Aviation Regulations (14 CFR 39.13).

The AD is reprinted in its entirety for the convenience of affected operators. The effective date of the AD remains April 4, 2003.

Since this action only corrects the applicability of AD 2003-04-21 to identify affected model designations as published in the most recent type certificate data sheet, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2003-04-21 R1 Bombardier, Inc. (Formerly Canadair): Amendment 39-13070. Docket 2002-NM-100-AD.

Applicability: Model CL-600-2B19 (Regional Jet Series 100 & 440) airplanes, certificated in any category, having the serial numbers listed in the following table:

Table—Serial Numbers
Serial Nos.
7003 through 7434 inclusive.
7436 through 7442 inclusive.
7444 through 7452 inclusive.
7454 through 7458 inclusive.
7460 through 7497 inclusive.
7499 through 7504 inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the inability of a passenger to open and dispose of the overwing emergency exit door during an emergency evacuation due to incorrect placards, accomplish the following:

Replacement of Placards

(a) Within 12 months after the effective date of this AD, replace the overwing emergency exit placards, door weight placards, and no baggage placards with new placards (including cleaning of the applicable surface), as applicable, per Bombardier Alert Service Bulletin A601R-11-077, Revision ‘A,' dated December 11, 2001, excluding Service Bulletin Comment Sheet-Facsimile Reply Sheet and CRJ 100/200 Service Bulletin Compliance Facsimile Reply Sheet.

(b) Replacement accomplished before the effective date of this AD per Bombardier Alert Service Bulletin A601R-11-077, dated July 12, 2001, is considered acceptable for compliance with the replacement specified in paragraph (a) of this AD.

Alternative Methods of Compliance

(c) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 2: Information concerning the existence of approved alternative methods of compliance with this AD, if any, may be obtained from the New York ACO.

Special Flight Permits

(d) Special flight permits may be issued in accordance with sections 21.197 and 21.199 of the Federal Aviation Regulations (14 CFR 21.197 and 21.199) to operate the airplane to a location where the requirements of this AD can be accomplished.

Incorporation by Reference

(e) Unless otherwise specified in this AD, the actions shall be done in accordance with Bombardier Alert Service Bulletin A601R-11-077, Revision ‘A,' dated December 11, 2001, excluding Service Bulletin Comment Sheet-Facsimile Reply Sheet and CRJ 100/200 Service Bulletin Compliance Facsimile Reply Sheet. This incorporation by reference was approved previously by the Director of the Federal Register as of April 4, 2003 (68 FR 9509, February 28, 2003). Copies may be obtained from Bombardier, Inc., Canadair, Aerospace Group, P.O. Box 6087, Station A, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 3: The subject of this AD is addressed in Canadian airworthiness directive CF-2002-12, dated February 4, 2002.

Effective Date

(f) The effective date of this amendment remains April 4, 2003.

Issued in Renton, Washington, on March 17, 2003.
Michael J. Kaszycki,
Acting Manager, Transport Airplane Directorate, Aircraft Certification Service.

[FR Doc. 03-6992 Filed 3-24-03; 8:45 am]

BILLING CODE 4910-13-P